SCIENCE AND TECHNOLOGY POLICY OFFICE

Request for Information To Support the Development of a Federal Environmental Justice Science, Data, and Research Plan; Reopening of Comment Period

AGENCY: White House Office of Science and Technology Policy.

ACTION: Request for information; reopening of comment period.

SUMMARY: On October 13, 2023, the Office of Science and Technology Policy (OSTP) published in the Federal Register a document entitled “Request for Information to Support the Development of a Federal Environmental Justice Science.” This RFI invited comments to the Subcommittee on Environmental Justice formed under the National Science and Technology Council Committee on the Environment in support of developing a coordinated Federal strategy to identify and address gaps in science, data, and research related to environmental justice. Information received through this RFI will inform the biennial Environmental Justice Science, Data, and Research Plan (Research Plan). Executive Order 14096 directed the formation of both the Subcommittee on Environmental Justice and the development of the Research Plan. In response to requests by prospective commenters that they would benefit from additional time to adequately consider and respond to the RFI, OSTP has determined that a reopening of the comment period until January 12, 2024 is appropriate.

DATES: The end of the comment period for the document entitled “Request for Information To Support the Development of a Federal Environmental Justice Science,” published on October 13, 2023 (88 FR 71041), is reopened from December 18, 2023 to January 12, 2024.

ADDRESSES: Interested individuals and organizations should submit comments electronically via regulations.gov. Due to time constraints, mailed paper submissions will not be accepted, and electronic submissions received after the deadline may not be incorporated or taken into consideration.

Instructions: Federal eRulemaking Portal: Go to www.regulations.gov to submit your comments electronically. Information on how to use Regulations.gov, including instructions for accessing agency documents, submitting comments, and viewing the docket, is available on the site under “FAQ” (https://www.regulations.gov/faq).

Privacy Note: OSTP's policy is to make all comments received from members of the public available for public viewing in their entirety on the Federal eRulemaking Portal at www.regulations.gov. Therefore, commenters should be careful to include in their comments only information that they wish to make publicly available. OSTP requests that no proprietary information, copyrighted information, or personally identifiable information be submitted in response to this RFI.

Response to this RFI is voluntary. Each responding entity (individual or organization) is requested to submit only one response. The National Science and Technology Council Environmental Justice Subcommittee welcomes any responses to inform and guide the work of the subcommittee. Please feel free to respond to as many prompts as you choose, indicating the section number and question letter being addressed. Responses are encouraged to include the name of the person(s) or organization(s) filing the comment, and may also include the respondent type (e.g., academic, non-profit, professional society, community-based organization, industry, trainee/student, member of the public, government, other). Respondent's role in the organization may also be provided (e.g., researcher, faculty, student, program manager, journalist) on a voluntary basis. Additionally, please include the Docket ID at the top of your comments.

Comments containing references, studies, research, and other empirical data that are not widely published should include copies or electronic links of the referenced materials.

Please note that the U.S. Government will not pay for response preparation, or for the use of any information contained in the response. A response to this RFI will not be viewed as a binding commitment to develop or pursue the project or ideas discussed.

FOR FURTHER INFORMATION CONTACT: For additional information, please direct questions to Dr. Kristi Pullen Fedinick, OSTP Assistant Director of Environmental Justice Science and Technology at EJ@ostp.eop.gov or via phone at (202) 881-9335.

SUPPLEMENTARY INFORMATION: In accordance with Executive Order 14096, OSTP seeks information to assist in developing a coordinated Federal strategy to identify and address gaps in science, data, and research related to environmental justice. Information received through this RFI will inform the biennial Environmental Justice Science, Data, and Research Plan (Research Plan). On October 13, 2023, OSTP published in the Federal Register a document inviting comments on a series of questions to support the development of the Research Plan (88 FR 71041). The RFI was issued to seek input from a broad array of stakeholders on the collection and use of science, data, and research in Federal decision making. The document stated that the comment period would close on December 12, 2023. OSTP has received requests to extend the comment period. A reopening of the comment period will provide additional opportunity for the public to consider the RFI and prepare comments to address the topics listed therein. Therefore, OSTP is reopening the comment period for the RFI from December 18, 2023 to January 12, 2024.

Submitted by the White House Office of Science and Technology Policy on December 12, 2023.
Stacy Murphy,
Deputy Chief Operations Officer/Security Officer.

[FR Doc. 2023-27632 Filed 12-15-23; 8:45 am]

BILLING CODE 3270-F1-P